DEPARTMENT OF THE TREASURY

United States Mint

Notification of Citizens Coinage Advisory Committee Public Meeting—October 15, 2024 (Day One) and October 16, 2024 (Day Two)

ACTION: Notice of meeting

Pursuant to United States Code, title 31, section 5135(b)(8)(C), the United States Mint announces the Citizens Coinage Advisory Committee (CCAC) public meeting scheduled for October 15-16, 2024.

Date: October 15, 2024, and October 16, 2024.

Time: October 15, 2024: 9 a.m. to 4 p.m. (ET).

October 16, 2024: 8 a.m. to 4 p.m. (ET).

Location: United States Mint; 801 9th Street NW, Washington, DC 20220.

Subject: Review and discussion of the candidate designs for the 2026 Semiquincentennial Dime; review and discussion of the candidate designs for the five 2026 Semiquincentennial Quarters; review and discussion of the candidate designs for the 2026 Semiquincentennial Half Dollar; review and discussion of the candidate designs for the 2026-2028 American Eagle Platinum Proof Coins; possible review and discussion of candidate designs for other proposed 2026 Semiquincentennial products; and possible review and discussion of candidate designs for the Emmett Till and Mamie Till-Mobley Congressional Gold Medal.

Interested members of the public can either attend the meeting in person or may watch the meeting live stream on the United States Mint's YouTube Channel at https://www.youtube.com/user/usmint. To watch the meeting live, members of the public may click on the “October 15, 2024” and “October 16, 2024” icons under the Live Tab for the specific day. If you will be attending in person, please contact Jennifer Warren (Jennifer.warren@usmint.treas.gov) no later than October 8, 2024, to fill out a form to be placed on the list for entry into the Mint Headquarters Building.

Members of the public should call the CCAC HOTLINE at (202) 354-7502 for the latest updates on meeting time and access information.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended. Members of the public interested in attending the meeting in person will be admitted into the meeting room on a first-come, first-serve basis, as space is limited. In addition, all persons entering a United States Mint facility must adhere to building security protocols. This means they must consent to the search of their persons and objects in their possession while on government grounds and when they enter and leave the facility are prohibited from bringing into the facility weapons of any type, illegal drugs, drug paraphernalia, or contraband. The United States Mint Police Officer conducting the search will evaluate whether an item may enter into or exit from a facility based upon Federal law, Treasury policy, United States Mint policy, and local operating procedures, and all prohibited and unauthorized items will be subject to confiscation and disposal. Members of the public will need to fill out a background clearance form and will need the day of the meeting to provide a government id (e.g., driver's license) to enter the building.

For members of the public interested in watching on-line, this is a reminder that the remote access is for observation purposes only. Members of the public may submit matters for the CCAC's consideration by email to info@ccac.gov.

For Accommodation Request: If you require an accommodation to watch the CCAC meeting, please contact the Office of Equal Employment Opportunity by October 8, 2024. You may submit an email request to Reasonable.Accommodations@usmint.treas.gov or call 202-354-7260 or 1-888-646-8369 (TTY).

FOR FURTHER INFORMATION CONTACT: Jennifer Warren, United States Mint Liaison to the CCAC; 801 9th Street NW, Washington, DC 20220; or call 202-354-7208.

(Authority: 31 U.S.C. 5135(b)(8)(C))

Eric Anderson,
Executive Secretary, United States Mint.

[FR Doc. 2024-22247 Filed 9-27-24; 8:45 am]

BILLING CODE 4810-37-P